DEPARTMENT OF AGRICULTURE

Natural Resources Conservation Service

Notice of Proposed Changes to the Natural Resources Conservation Service's National Handbook of Conservation Practices

AGENCY: Natural Resources Conservation Service (NRCS), Department of Agriculture.

ACTION: Notice of availability of proposed changes in the NRCS National Handbook of Conservation Practices for public review and comment.

SUMMARY: Notice is hereby given of the intention of NRCS to issue a series of new or revised conservation practice standards in its National Handbook of Conservation Practices. These standards include: “Above Ground, Multi-Outlet Pipeline (Code 431),” “Irrigation System, Microirrigation (Code 441),” “Pond Sealing or Lining—Flexible Membrane (Code 521A),” “Land Reclamation, Abandoned Mine Land (Code 543),” “Land Reclamation, Currently Mined Land (Code 544),” and “Watering Facility (Code 614).” NRCS State Conservationists who choose to adopt these practices for use within their States will incorporate them into Section IV of their respective electronic Field Office Technical Guides (eFOTG). These practices may be used in conservation systems that treat highly erodible land, or on land determined to be wetland.

DATES: Effective Dates: Comments will be received for a 30-day period commencing with this date of publication. Final versions of these new or revised conservation practice standards will be adopted after the close of the 30-day period, following consideration of all comments. Comments should be submitted to Daniel Meyer, National Agricultural Engineer, at Natural Resources Conservation Service, Post Office Box 2890, Room 6139-S, Washington, DC 20013-2890, or via e-mail at Daniel.Meyer@wdc.usda.gov.

FOR FURTHER INFORMATION CONTACT: Copies of these standards can be downloaded or printed from the following Web site: ftp://ftp-fc.sc.egov.usda.gov/NHQ/practice-standards/federal-register/. Single copies of these standards are also available from NRCS' National Headquarters. Submit individual inquiries in writing to Daniel Meyer, National Agricultural Engineer, Natural Resources Conservation Service, Post Office Box 2890, Room 6139-S, Washington, DC 20013-2890, or electronically at Daniel.Meyer@wdc.usda.gov.

SUPPLEMENTARY INFORMATION: Section 343 of the Federal Agriculture Improvement and Reform Act of 1996 requires NRCS to make available for public review and comment proposed revisions to conservation practice standards used to carry out the highly erodible land and wetland provisions of the law. For the next 30 days, NRCS will receive comments relative to the proposed changes. Following that period, a determination will be made by NRCS regarding disposition of those comments, and a final determination of changes will be made.

Signed in Washington, DC, on May 17, 2006.
Bruce I. Knight,
Chief, Natural Resources Conservation Service.

[FR Doc. E6-8203 Filed 5-26-06; 8:45 am]

BILLING CODE 3410-16-P